ENVIRONMENTAL PROTECTION AGENCY

[ER-FRL-6680-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060278, ERP No. D-NOA-A91074-00, North Atlantic Right Whale Ship Strike Reduction Strategy, To Implement the Operational Measures to Reduce the Occurrence and Severity of Vessel Collisions with the Right Whale, Serious Injury and Deaths Resulting from Collisions with Vessels.

Summary: While EPA believes Alternative 5 is the environmentally preferred alternative, EPA does not object to the proposed action.

Rating LO.

EIS No. 20060315, ERP No. D-AFS-K65317-CA, Antelope-Pardee 500kV Transmission Project, Construct, Operate and Maintain a New 25.6-mile 500kV Transmission Line, Right-of-Way Permit and Special Use Authorization, Angeles National Forest, Los Angeles County, CA.

Summary: EPA expressed environmental concerns about potential impacts to air quality, significant and unavoidable cumulative impacts to multiple resources and noise impacts on sensitive receptors. The FEIS should identify and commit to additional mitigation measures for these impacts.

Rating EC2.

EIS No. 20060343, ERP No. D-WPA-J08027-SD, White Wind Farm Project, Construct a Large Utility-Scale Wind-Powered Electric Energy Generating Facility, Sherman Township, Brookings County, SD.

Summary: While EPA does not object to the proposed action, clarification of mitigation that could be implemented to reduce bird/bat mortality in the project area is requested.

Rating LO.

EIS No. 20060338, ERP No. DS-FHW-J40135-MT, U.S. 93 Highway Ninepipe/Ronan Improvement Project, from Dublin Gulch Road/Red Horn Road, Funding, Special-Use-Permit, NPDES Permit and U.S. Army COE Section 404 Permit, Lake County, MT.

Summary: EPA expressed environmental concerns about impacts to wetlands and aquatic habitat, as well as impacts to wildlife and wildlife movement, including the threatened grizzly bear. EPA requested additional information and mitigation on these issues.

Rating EC2.

Final EISs

EIS No. 20060377, ERP No. F-FRC-L05235-WA, Baker River Hydroelectric Project, Application to Relicense the Upper Baker and Lower Baker Developments, Mt. Baker-Snoqualmie National Forest, Baker River, Whatcom and Skagit Counties, WA.

Summary: No formal comment letter was sent to the preparing agency.

Dated: October 17, 2006.
Ken Mittelholtz,
Environmental Protection Specialist, Office of Federal Activities.

[FR Doc. E6-17565 Filed 10-19-06; 8:45 am]

BILLING CODE 6560-50-P